DEPARTMENT OF HEALTH AND HUMAN SERVICES

National Committee on Vital and Health Statistics

AGENCY: Centers for Disease Control and Prevention, HHS.

ACTION: Notice of meeting.

SUMMARY: Pursuant to the Federal Advisory Committee Act, the Department of Health and Human Services (HHS) announces the following advisory committee meeting. This meeting is open to the public. The public is welcome to obtain the link to attend this meeting by following the instructions that will be posted on the website prior to the meeting at: https://ncvhs.hhs.gov/.

Name: National Committee on Vital and Health Statistics (NCVHS), Meeting of the full Committee.

DATES: The meeting will be held Monday, January 24, 2022: 10:30 a.m.-5:30 p.m. EST and Tuesday, January 25, 2021: 10:00 a.m.-4:30 p.m. EST.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the NCVHS website, https://ncvhs.hhs.gov/, where further information including an agenda and instructions to access the broadcast of the meeting will be posted.

Should you require reasonable accommodation, please contact the CDC Office of Equal Employment Opportunity on (770) 488-3210 as soon as possible.

SUPPLEMENTARY INFORMATION:

Purpose: As outlined in its Charter, the National Committee on Vital and Health Statistics assists and advises the Secretary of HHS on health data, data standards, statistics, privacy, national health information policy, and the Department's strategy to best address those issues. This includes the adoption and implementation of transaction standards, unique identifiers, operating rules and code sets adopted under the Health Insurance and Portability Act of 1996 (HIPAA).¹ At this meeting, the Committee will receive updates from HHS officials, hold discussions on current health data policy topics, and discuss its work plan for the upcoming period.

¹ Public Law 104-191, 110 Stat. 1936 (Aug 21, 1996), available at https://www.congress.gov/104/plaws/publ191/PLAW-104publ191.pdf.

The Subcommittee on Standards will provide an update on its project focused on standardization of information for burden reduction and post-pandemic America. This will include discussion of the 2022 workplan and plans to ensure alignment of Subcommittee activities with ongoing work within HHS. The Subcommittee on Privacy, Confidentiality & Security will bring forward potential recommendations regarding data collection and use during public health emergencies for Committee discussion and consideration. The Subcommittee also plans to discuss and consider recommendations from the July 14 hearing on Security in Healthcare. The Committee will conduct follow up on its April 1, 2021, expert panel session, “Covid-19: Capacity, Gaps & Quality in Collection of Race/Ethnicity Data,” to explore the need for recommendations to HHS. A new Work Group of the Committee will discuss standards and practices for collection, use, measurement, and reporting of social determinants of health (SDOH) and sexual orientation and gender identity (SOGI).

The Committee will reserve time for public comment toward the end of the schedule on both days. Meeting times and topics are subject to change. Please refer to the agenda posted on the NCVHS website for any updates to this information: https://ncvhs.hhs.gov/.

Sharon Arnold,
Associate Deputy Assistant Secretary for Planning and Evaluation, Science and Data Policy, Office of the Assistant Secretary for Planning and Evaluation.

[FR Doc. 2021-28341 Filed 12-29-21; 8:45 am]

BILLING CODE 4150-05-P